DEPARTMENT OF COMMERCE

International Trade Administration

[C-533-839]

Carbazole Violet Pigment 23 from India: Final Results of the Expedited Five-year (Sunset) Review of the Countervailing Duty Order

AGENCY: Import Administration, International Trade Administration, Department of Commerce.

SUMMARY: On November 2, 2009, the Department of Commerce (the Department) initiated a sunset review of the countervailing duty (CVD) order on Carbazole Violet Pigment 23 (CVP-23) from India pursuant to section 751(c) of the Tariff Act of 1930, as amended (the Act). See Initiation of Five-year (Sunset) Review, 74 FR 56593 (November 2, 2009) (Initiation Notice). On the bases of a notice of intent to participate and an adequate response filed on behalf of domestic interested parties, and in this case no response from any respondent interested party, the Department conducted an expedited sunset review of the CVD order pursuant to section 751(c)(3)(B) of the Act and 19 CFR 351.218(e)(1)(ii)(B). As a result of this review, the Department finds that revocation of the CVD order would likely lead to continuation or recurrence of countervailable subsidies at the levels indicated in the “Final Results of Review” section of this notice.

EFFECTIVE DATE: March 19, 2010.

FOR FURTHER INFORMATION CONTACT: Martha Douthit or Mark Hoadley, AD/CVD Operations, Office 6, Import Administration, International Trade Administration, U.S. Department of Commerce, 14th Street and Constitution Ave., NW, Washington, DC 20230; telephone: (202) 482-5050 or (202) 482-3148, respectively.

SUPPLEMENTARY INFORMATION:

Background

The Department published in the Federal Register the notice of initiation of the first five-year sunset review of the CVD order on CVP-23 from India, pursuant to section 751(c) of the Act. See Initiation Notice. The Department received notice of intent to participate from domestic interested parties and Petitioners in the original investigation, Nation Ford Chemical Company and Sun Chemical Corporation (collectively, Petitioners). On December 2, 2009, Petitioners submitted a timely substantive response in accordance with 19 CFR 351.218(d)(1)(i). Petitioners claimed interested party status as U.S. producers of the domestic like product, pursuant to section 771(9)(C) of the Act. The Department did not receive a response from the Government of India or any other respondent interested party in this proceeding. In accordance with 19 CFR 351.218(e)(1)(ii)(C)(1), the Department notified the International Trade Commission (ITC) that respondent interested parties provided inadequate responses to the Initiation Notice. See Letter from Edward C. Yang, Senior Executive Coordinator, AD/CVD Operations, Office 9, Import Administration, to Ms. DeFilippo, Director, Office of Investigations, ITC, dated December 22, 2009. As a result, pursuant to 19 CFR 51.218(e)(1)(ii)(B) and (C)(2), the Department conducted an expedited review of this order.

Scope of the Order

The merchandise covered by this order is CVP-23 identified as Color Index No. 51319 and Chemical Abstract No. 6358-30-1, with the chemical name of diindolo [3,2-b:3',2'-m] triphenodioxazine, 8,18-dichloro-5,15-diethy-5,15-dihydro-, and molecular formula of C34H22Cl2N4O2.¹ The subject merchandise includes the crude pigment in any form (e.g., dry powder, paste, wet cake) and finished pigment in the form of presscake and dry color. Pigment dispersions in any form (e.g., pigments dispersed in oleoresins, flammable solvents, water) are not included within the scope of the order. The merchandise subject to this order is classifiable under subheading 3204.17.9040 of the Harmonized Tariff Schedule of the United States (HTSUS). Although the HTSUS subheading is provided for convenience and customs purposes, the written description of the merchandise under the order is dispositive.

¹ The bracketed section of the product description, [3,2-b:3',2'-m], is not business proprietary information. In this case, the brackets are simply part of the chemical nomenclature. See December 4, 2003 amendment to petition (supplemental petition) at 8.

Analysis of Comments Received

A complete discussion of all issues raised in this review is addressed in the accompanying Issues and Decision Memorandum (Decision Memorandum), from John M. Andersen, Acting Deputy Assistant Secretary for Antidumping and Countervailing Duty Operations, to Ronald K. Lorentzen, Deputy Assistant Secretary for Import Administration, dated concurrently with this notice, which is hereby adopted by this notice. Parties can obtain a public copy of the Decision Memorandum on file in the Central Records Unit, room 1117, of the main Commerce building. In addition, a complete public version of the Decision Memorandum can be accessed directly on the Web at http://ia.ita.doc.gov/frn. The paper copy and electronic version of the Decision Memorandum are identical in content.

Final Results of Review

The Department determines that revocation of the CVD order would be likely to lead to continuation or recurrence of a countervailable subsidy at the rates listed below:

PRODUCER/EXPORTER | NET SUBSIDY RATE
Alpanil Industries Ltd | 17.57% ad valorem
Pidilite Industries Ltd | 17.33% ad valorem
AMI Pigments Pvt. Ltd | 33.61% ad valorem
All Others | 20.55% ad valorem

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: March 9, 2010.
Ronald K. Lorentzen,
Deputy Assistant Secretary for Import Administration.

[FR Doc. 2010-6090 Filed 3-18-10; 8:45 am]

BILLING CODE 3510-DS-S